SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before October 16, 2023.

ADDRESSES: Send all comments to Rachel Karton, Rachel.newman-karton@sba.gov, for the Office of Entrepreneurial Development, Small Business Administration Washington, DC 20416.

FOR FURTHER INFORMATION CONTACT: Rachel Karton, Rachel.newman-karton@sba.gov, for the Office of Entrepreneurial Development, Curtis B. Rich, Agency Clearance Officer, 202-205-7030 curtis.rich@sba.gov.

SUPPLEMENTARY INFORMATION: In accordance with regulations and policy, the Small Business Development Centers (SBDC's) must submit with their proposal SBA Form 1224, Grant/Cooperative Agreement Cost Sharing Proposal, to SBA for verification of the recipient's share of the project cost.

Summary of Information Collection

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

OMB Control Number: 3245-0140.

Title: “SBA Form 1224, Grant/Cooperative Agreement Cost Sharing Proposal”.

Description of Respondents: SBDC Directors.

Form Number: 1224.

Annual Responses: 169.

Annual Burden: 84.5.

Curtis Rich,
Agency Clearance Officer.

[FR Doc. 2023-17634 Filed 8-16-23; 8:45 am]

BILLING CODE 8026-09-P